DEPARTMENT OF HEALTH AND HUMAN SERVICES

Centers for Disease Control and Prevention

[60-Day-09-09AM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road, NE., MS-D74, Atlanta, Georgia 30333; comments may also be sent by e-mail to omb@cdc.gov.

Comments are invited on (a) whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

Prevalence Survey of Healthcare Acquired Infections (HAIs) in U.S. Acute Care Hospitals—New—National Center for Preparedness, Detection, and Control of Infectious Diseases (NCPDCID), Centers for Disease Control and Prevention (CDC).

Background and Brief Description

CDC is requesting OMB approval to conduct a survey to obtain national estimates of HAIs prevalence in the United States. Preventing HAIs is a CDC priority. An essential step in reducing the occurrence of HAIs is to accurately estimate the burden of these infections in U.S. hospitals and to describe the types of HAIs and their causative organisms. The scope and magnitude of HAIs in the U.S. were last directly estimated in the 1970s and 1980s by CDC's Study on the Efficacy of Nosocomial Infection Control (SENIC), in which comprehensive data were collected from a sample of 338 hospitals; 5% of hospitalized patients acquired an infection not present at the time of admission. Because of the substantial resources necessary to conduct hospital-wide surveillance in an ongoing manner, CDC's current HAI surveillance system, the National Healthcare Safety Network (NHSN), focuses instead on device-associated and procedure-associated infections in a variety of patient locations, and does not receive data on all types of HAIs to make hospital-wide burden estimates. The purpose of this data collection is to assess the magnitude and types of HAIs occurring in all patient populations within acute care hospitals in order to inform decisions by local and national policy makers and hospital infection control personnel regarding appropriate targets and strategies for HAI prevention. Such assessments can be obtained in periodic national prevalence studies, such as those that have been conducted in several European countries.

The proposed survey will be conducted in a representative sample of 500 U.S. acute care hospitals, and will require infection control personnel in each participating hospital to collect surveillance data on CDC-defined HAIs on a single day for a sample of eligible patients in the participating hospitals. CDC will use the data provided to estimate the prevalence of HAIs across this representative sample of U.S. hospitals as well as the distribution of infection types and causative organisms. CDC will also use this data to promote its goal of preventing HAIs.

The proposed project supports CDC's Strategic Goal of “Healthy Healthcare Settings,” specifically the objective to “Promote compliance with evidence-based guidelines for preventing, identifying, and managing disease in healthcare settings.” There are no costs to respondents, other than their time to complete the survey.

Estimate of Annualized Burden Hours
Respondents | Number of respondents | Number of responses per respondent | Average burden per response (in hours) | Total burden (in hours)
Infection Control Practitioners | 500 | 74 | 15/60 | 9,250
Total |  |  |  | 9,250

Dated: January 22, 2009.
Maryam I. Daneshvar,
Acting Reports Clearance Officer, Centers for Disease Control and Prevention.

[FR Doc. E9-2002 Filed 1-29-09; 8:45 am]

BILLING CODE 4163-18-P